COMMISSION ON CIVIL RIGHTS

Notice of Public Meeting of the Utah Advisory Committee; Cancellation

AGENCY: Commission on Civil Rights.

ACTION: Notice; cancellation of meeting.

The Commission on Civil Rights published a notice in the Federal Register concerning a meeting of the Utah Advisory Committee. The meeting, scheduled for Wednesday, November 20, 2024, at 3 p.m. MT, has been cancelled. The notice is in the Federal Register on Tuesday, November 19, 2024, in FR Document Number 2024-26723 at 89 FR 91319-91320.

FOR FURTHER INFORMATION CONTACT: Liliana Schiller, Support Services Specialist, at lschiller@usccr.gov or (202) 770-1856.

Dated: November 21, 2024.
David Mussatt,
Supervisory Chief, Regional Programs Unit.

[FR Doc. 2024-27738 Filed 11-26-24; 8:45 am]

BILLING CODE 6335-01-P